DEPARTMENT OF COMMERCE

National Oceanic and Atmospheric Administration

RIN 0648-XG897

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council and the Atlantic States Marine Fisheries Commission will hold a joint webinar meeting of their Summer Flounder, Scup, and Black Sea Bass Advisory Panels.

DATES: The meeting will be held on April 2, 2019, from 1 p.m. to 3 p.m. See SUPPLEMENTARY INFORMATION for agenda details.

ADDRESSES: The meeting will be held via webinar, with an option to connect via telephone only. Connection information will be posted to http://www.mafmc.org/council-events.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council and the Atlantic States Marine Fisheries Commission will hold a joint webinar meeting of their Summer Flounder, Scup, and Black Sea Bass Advisory Panels on April 2, 2019 (see DATES and ADDRESSES). The purpose of this meeting is to discuss potential changes to commercial management measures, including the state-by-state commercial quota allocations managed by the Atlantic States Marine Fisheries Commission, federal in-season closure regulations, and other measures. The Council recently initiated an amendment to consider these and other issues; however, they agreed to postpone development of management alternatives until later in the year after the Atlantic States Marine Fisheries Commission's Black Sea Bass Commercial Working Group has made further progress on options for revisions to the state-by-state commercial quota allocations.

Special Accommodations

The meeting is physically accessible to people with disabilities. Requests for sign language interpretation or other auxiliary aid should be directed to M. Jan Saunders, (302) 526-5251, at least 5 days prior to the meeting date.

Dated: March 14, 2019.
Rey Israel Marquez,
Acting Deputy Director, Office of Sustainable Fisheries, National Marine Fisheries Service.

[FR Doc. 2019-05124 Filed 3-18-19; 8:45 am]

BILLING CODE 3510-22-P